DEPARTMENT OF AGRICULTURE

Natural Resources Conservation Division; Notice of Proposed Changes to Section IV of the Oregon Field Office Technical Guide (FOTG)

AGENCY: Natural Resources Conservation Service (NRCS), U.S. Department of Agriculture.

ACTION: Notice of availability of proposed changes in the Oregon NRCS Field Office Technical Guide for review and comment.

SUMMARY: It is the intention of NRCS in Oregon to issue revised conservation practice standards in section IV of the FOTG. The revised standards include: 342, Critical Area Planting; 484, Mulching; 595, Pest Management; 633, Waste Utilization.

DATES: Comments will be received for a 30-day period commencing with the date of this publication.

FOR FURTHER INFORMATION CONTACT: Inquire in writing to Russell Hatz, Leader for Technology, Natural Resources Conservation Service (NRCS), 101 SW Main, Suite 1300, Portland, OR 97204; telephone number (503) 414-3235; fax number (503) 414-3103. Copies of these standards will be made available upon written request to the address shown above. You may submit electronic requests and comments to russ.hatz@or.usda.gov.

SUPPLEMENTARY INFORMATION: Section 343 of the Federal Agriculture Improvement and Reform Act of 1996 states that revisions made after enactment of the law, to NRCS State technical guides used to carry out highly erodible land and wetland provisions of the law, shall be made available for public review and comment. For the next 30 days, the NRCS in Oregon will receive comments relative to the proposed changes. Following that period, a determination will be made by the NRCS in Oregon regarding disposition of those comments and a final determination of change will be made.

Dated: July 14, 2003.
Bob Graham,
State Conservationist.

[FR Doc. 03-18346 Filed 7-17-03; 8:45 am]

BILLING CODE 3410-16-P